NATIONAL FOUNDATION ON THE ARTS AND THE HUMANITIES

Institute of Museum and Library Services

Submission for OMB Review, Comment Request, Proposed Collection: Maker/STEM Education Support for 21st Century Community Learning Centers Program Evaluation

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the CONTACT section below on or before July 7, 2017.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Christopher J. Reich, Senior Advisor, Institute of Museum and Library Services, 955 L'Enfant Plaza North SW., Suite 4000, Washington, DC 20024-2135. Mr. Reich can be reached by Telephone: 202-653-4685, Fax: 202-653-4608, or by email at creich@imls.gov, or by teletype (TTY/TDD) at 202-653-4614.

SUPPLEMENTARY INFORMATION: The Institute of Museum and Library Services is the primary source of federal support for the Nation's 123,000 libraries and 35,000 museums. The Institute's mission is to inspire libraries and museums to advance innovation, learning, and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library, and information services of the United States and strengthen national, State, local, regional, and international communications and cooperative networks (20 U.S.C. 72, 20 U.S.C. 9108).

The purpose of this collection is to assess the quality of Maker/STEM program implementation at 21st Century Community Learning Centers (21ST CCLC) and the associated outcomes for participating youth, 21st CCLC site staff, and museum/science center staff. The Maker/STEM Education Support for 21st CCLC project is designed to support Maker and Science, Technology, Engineering, and Math (STEM) education learning by providing professional development, activities, tools, and training to 21st CCLCs in 30-40 sites across seven States or regions.

The evaluation is intended to provide insight for future changes, programmatic improvements, and learning at all levels of the program. Methods will include qualitative and quantitative data collection via a mixed methods approach. Data will be collected through activities such as online and/or paper and pencil surveys, phone interviews, and in-person interviews.

Current Actions: This notice proposes clearance of the Maker/STEM Education Support for 21st Century Community Learning Centers Program Evaluation. The 60-day notice for the Maker/STEM Education Support for 21st Century Community Learning Centers Program Evaluation, was published in the Federal Register on February 13, 2017 (82 FR 10501, February 13, 2017). No comments were no received under this notice.

Agency: Institute of Museum and Library Services.

Title: Maker/STEM Education Support for 21st Century Community Learning Centers Program Evaluation.

OMB Number: To Be Determined.

Frequency: One-time collection anticipated.

Affected Public: The target population is museum/science center staff, 21st CCLC staff, and youth participants involved in the STEM/Making programs at targeted 21st CCLC sites.

Number of Respondents: 96.

Estimated Average Burden per Response: 32 minutes.

Estimated Total Annual Burden: 29 hours.

Total Annualized cost to respondents: $558.71.

Total Annualized capital/startup costs: n/a.

Contact: Comments should be sent to Office of Information and Regulatory Affairs, Attn.: OMB Desk Officer for Education, Office of Management and Budget, Room 10235, Washington, DC 20503, (202) 395-7316.

Dated: June 6, 2017.
Kim A. Miller,
Grants Management Specialist.

[FR Doc. 2017-12029 Filed 6-9-17; 8:45 am]

BILLING CODE 7036-01-P